DEPARTMENT OF COMMERCE

International Trade Administration

(A-570-891)

Notice of Rescission of Antidumping Duty Administrative Review: Hand Trucks and Certain Parts Thereof from the People’s Republic of China

AGENCY: Import Administration, International Trade Administration, Department of Commerce.

SUMMARY: In response to requests from Gleason Industrial Products, Inc., and Precision Products, Inc. (collectively, petitioners), the U.S. Department of Commerce (the Department) initiated an administrative review of the antidumping duty order on hand trucks and certain parts thereof from the People’s Republic of China for the companies listed below for the period December 1, 2006, through November 30, 2007. No other interested party requested a review for this period of review. For the reasons discussed below, the Department is rescinding this administrative review.

EFFECTIVE DATE: June 26, 2008.

FOR FURTHER INFORMATION CONTACT: David Cordell or Robert James, AD/CVD Operations, Office 7, Import Administration, International Trade Administration, U.S. Department of Commerce, 14th Street and Constitution Avenue NW, Washington, DC 20230; telephone: (202) 482-0408 or (202) 482-0649 respectively.

SUPPLEMENTARY INFORMATION:

Background

On December 3, 2007, the Department published in the Federal Register its notice of opportunity to request an administrative review of the antidumping duty order on hand trucks and certain parts thereof from the People’s Republic of China. See Antidumping or Countervailing Duty Order, Finding, or Suspended Investigation; Opportunity to Request Administrative Review, 72 FR 67889 (December 3, 2007). In accordance with 19 CFR 351.213(b)(1), on December 28, 2007, petitioners requested that the Department conduct an administrative review for the following exporters of the subject merchandise: Qingdao Taifa Group Co. Ltd. (Taifa); True Potential Co., Ltd. (True Potential); Since Hardware (Guangzhou) Co., Ltd. (Since Hardware); and New-Tec Integration (Xiamen) Co., Ltd. (New-Tec).

On January 28, 2008, the Department published in the Federal Register a notice of the initiation of the antidumping duty administrative review of hand trucks from the PRC for the period December 1, 2006, through November 30, 2007, with respect to the above-named four companies. See Initiation of Antidumping and Countervailing Duty Administrative Reviews and Request for Revocation in Part, 73 FR 4829 (January 28, 2008).

On March 28, 2008, the Department determined that it was not practicable to examine individually all of the companies covered by the 2006-2007 administrative review, and thus it limited its examination to the largest producers/exporters that could reasonably be reviewed, pursuant to section 777A(c)(2)(B) of the Tariff Act of 1930, as amended (the Tariff Act). The Department selected Taifa as the sole respondent required to submit a full questionnaire response in the administrative review. See the memorandum titled “Respondent Selection Memorandum: Antidumping Duty Administrative Review of Hand Trucks and Certain Parts Thereof from the People’s Republic of China” dated March 28, 2008.

On April 4, 2008, petitioners withdrew their requests for Taifa, Since, and New-Tec.¹ On April 24, 2008, petitioners withdrew their request for an administrative review for True Potential.

Rescission of Review

Section 351.213(d)(1) of the Department’s regulations provide that the Department will rescind an administrative review if the party that requested the review withdraws its request for review within 90 days of the date of publication of the notice of initiation of the requested review, or withdraws at a later date if the Department determines that it is reasonable to extend the time limit for withdrawing the request. As the party that requested this review has timely withdrawn those requests, this review is rescinded. The Department will issue appropriate assessment instructions directly to U.S. Bureau of Customs and Border Protection.

Notification to Importers

This notice serves as a final reminder to importers of their responsibility under section 351.402(f) of the Department’s regulations to file a certificate regarding the reimbursement of antidumping duties prior to liquidation of the relevant entries during this review period. Failure to comply with this requirement could result in the Secretary’s assumption that reimbursement of antidumping duties occurred and subsequent assessment of double antidumping duties.

This notice also serves as a reminder to parties subject to administrative protective order (APO) of their responsibility concerning the disposition of proprietary information disclosed under APO in accordance with section 351.305(a)(3) of the Department’s regulations. Timely written notification of the return/destruction of APO materials or conversion to judicial protective order is hereby requested. Failure to comply with the regulations and the terms of an APO is a sanctionable violation.

This notice is in accordance with section 777(i)(1) of the Tariff Act, and 19 CFR 351.213(d)(4) of the Department’s regulations.

Dated: June 19, 2008.
Stephen J. Claeys,
Deputy Assistant Secretary for Import Administration.

¹ A new shipper review is currently ongoing for the period 12/01/2006 to 05/31/2007 for New-Tec. Liquidation will continue to be suspended for this period (12/01/2006 to 05/31/2007) until the issuance of the final results in that review.

[FR Doc. E8-14536 Filed 6-25-08; 8:45 am]

BILLING CODE 3510-DS-S